DEPARTMENT OF COMMERCE

National Oceanic and Atmospheric Administration

50 CFR Part 679

[RTID 0648-XC845]

Fisheries of the Exclusive Economic Zone Off Alaska; Snow Crab Rebuilding Plan in the Bering Sea and Aleutian Islands

AGENCY: National Marine Fisheries Service (NMFS), National Oceanic and Atmospheric Administration (NOAA), Commerce.

ACTION: Notice of availability of fishery management plan amendment; request for comments.

SUMMARY: The North Pacific Fishery Management Council (Council) submitted Amendment 53 to the Fishery Management Plan (FMP) for Bering Sea/Aleutian Islands (BSAI) King and Tanner Crabs (Crab FMP), to the Secretary of Commerce for review. If approved, Amendment 53 would add a new rebuilding plan for snow crab (Chionoecetes opilio) to the Crab FMP. The objective of this amendment is to rebuild the snow crab stock. In order to comply with provisions of the Magnuson-Stevens Fishery Conservation and Management Act (Magnuson-Stevens Act), this action is necessary to implement a rebuilding plan prior to the start of the 2023/2024 fishing season. Amendment 53 is intended to promote the goals and objectives of the Magnuson-Stevens Act, the Crab FMP, and other applicable laws.

DATES: Comments must be received no later than August 14, 2023.

ADDRESSES: You may submit comments on this document, identified by NOAA-NMFS-2023-0040, by any of the following methods:

• Electronic Submission: Submit all electronic public comments via the Federal e-Rulemaking Portal. Go to https://www.regulations.gov and enter NOAA-NMFS-2023-0040 in the Search box. Click on the “Comment” icon, complete the required fields, and enter or attach your comments.

• Mail: Submit written comments to Gretchen Harrington, Assistant Regional Administrator, Sustainable Fisheries Division, Alaska Region NMFS, Attn: Records Office. Mail comments to P.O. Box 21668, Juneau, AK 99802-1668.

Instructions: Comments sent by any other method, to any other address or individual, or received after the end of the comment period, may not be considered by NMFS. All comments received are a part of the public record and will generally be posted for public viewing on https://www.regulations.gov without change. All personal identifying information (e.g., name, address), confidential business information, or otherwise sensitive information submitted voluntarily by the sender will be publicly accessible. NMFS will accept anonymous comments (enter “N/A” in the required fields if you wish to remain anonymous).

Electronic copies of the draft Environmental Assessment (referred to as the “Analysis”) prepared for the proposed rule may be obtained from https://www.regulations.gov.

FOR FURTHER INFORMATION CONTACT: Megan Mackey, 907-586-7228.

SUPPLEMENTARY INFORMATION: The Magnuson-Stevens Act requires that each regional fishery management council submit any FMP amendment it prepares to NMFS for review and approval, disapproval, or partial approval by the Secretary of Commerce (Secretary). The Magnuson-Stevens Act also requires that NMFS, upon receiving an FMP amendment, immediately publish a notice in the Federal Register announcing that the amendment is available for public review and comment. The Council has submitted Amendment 53 to the Secretary for review. This notice announces that proposed Amendment 53 is available for public review and comment.

NMFS manages the crab fisheries in the exclusive economic zone under the Crab FMP. The Council prepared the FMP under the authority of the Magnuson-Stevens Act, (16 U.S.C. 1801 et seq.). Regulations governing U.S. fisheries and implementing the FMP appear at 50 CFR parts 600 and 680.

Through the Crab FMP, the State of Alaska (the State) is delegated management authority over certain aspects of the Eastern Bering Sea (EBS) snow crab fishery. This authority is limited by the Magnuson-Stevens Act and the FMP. For EBS snow crab, the State has established a harvest strategy to set total allowable catch (TAC), and announce season or area closures when the TAC is reached. The State's Bering Sea C. opilio Tanner (snow crab) harvest strategy applies during rebuilding, and is provided in the Alaska Administrative Code at 5 AAC 35.517. The State harvest strategy is more conservative than the Crab FMP's control rule parameters for EBS snow crab because, under the harvest strategy, a higher level of biomass is required to open directed fishing than under the overfishing level (FOFL) control rule.

On October 19, 2021, NMFS determined and notified the Council that the EBS snow crab stock was overfished because the estimated mature male biomass was below the minimum stock size threshold specified in the Crab FMP. To comply with provisions of the Magnuson-Stevens Act, the Council developed a rebuilding plan to be implemented prior to the start of the 2023/2024 fishing season.

In February 2023, the Council chose a rebuilding plan for EBS snow crab that would allow bycatch removals and an opportunity for directed harvest during rebuilding if estimates of stock biomass are sufficient to open the fishery under the State's snow crab harvest strategy. The proposed rebuilding plan is consistent with the Magnuson-Stevens Act and with National Standard 1 Guidelines on time for rebuilding, specifically rebuilding within a time (Ttarget) that is as short as possible, taking into account the status and biology of any overfished stocks of fish, the needs of fishing communities, recommendations by international organizations in which the United States participates, and the interaction of the overfished stock of fish with the marine ecosystems. This rebuilding plan would allow directed fishing pursuant to the State harvest strategy and may provide important economic opportunities for harvesters, processors, and Alaska communities. Maintaining this economic opportunity for a limited directed commercial fishery under the State harvest strategy is important for harvesters, processors, and communities, particularly during this time when the majority of commercial crab stocks are in a state of decline and future openings are likely to be limited.

Under the Magnuson-Stevens Act, the time period specified for rebuilding a fishery generally should not exceed 10 years unless the biology of the stock or environmental conditions dictate otherwise. The projected time for rebuilding the EBS snow crab stock, taking into account the biology of the species and current environmental conditions, is 6 years. The main driver in the speed of rebuilding is likely related to recruitment and the ecosystem conditions that allow for increased recruitment into the population. Uncertainty surrounding recruitment and mortality under current ecosystem conditions is expected to heavily influence the rate at which the stock is able to rebuild under the proposed projection parameters. Fishing mortality under the State's current harvest strategy is expected to have only insignificant or minimal impacts on the rate of rebuilding.

Amendment 53 would add Section 6.2.3 to the Crab FMP to include the proposed rebuilding plan for EBS snow crab. Under the proposed rebuilding plan, ecosystem indicators developed for the stock would be monitored during rebuilding. The NMFS EBS bottom-trawl survey provides data for the annual assessment of the status of crab stocks in the BSAI, including EBS snow crab, and would continue throughout rebuilding. The Council's BSAI Crab Plan Team would report stock status and progress towards the rebuilt level in the Stock Assessment and Fishery Evaluation (SAFE) Report for the king and Tanner crab fisheries of the BSAI. Additionally, the State and NMFS monitor directed fishery catch and bycatch of snow crabs in other fisheries. When the fishery is open, the State requires full observer coverage (100 percent) for catcher/processors and partial coverage (30 percent) for catcher vessels participating in the crab fishery. Observers monitor harvest at sea and landings by catcher vessels and shoreside processors. The State reports the total harvest from the commercial crab fishery, and that report will be included annually in the SAFE. The contribution of the rebuilding plan's assessment and monitoring to stock recovery would be additive to measures already in place that limit the effects of fishing activity on EBS snow crab.

In addition, Amendment 53 will remove rebuilding plans from the Crab FMP for stocks that have since been rebuilt or that have been replaced with new rebuilding plans, including rebuilding plans for Bering Sea Tanner crab (declared overfished on March 3, 1999), Bering Sea snow crab (declared overfished on September 24, 1999), and St. Matthew blue king crab (declared overfished on September 24, 1999).

NMFS is soliciting public comments on proposed Amendment 53 through the end of the comment period (see DATES). All relevant written comments received by the end of the applicable comment period will be considered by NMFS in the approval/partial approval/disapproval decision for Amendment 53 and addressed in the response to comments in the final decision. Comments received after the end of the applicable comment period will not be considered in the approval/disapproval decision on Amendment 53. To be considered, comments must be received, not just postmarked or otherwise transmitted, by the last day of the comment period (see DATES).

Authority: 16 U.S.C. 1801 et seq.

Dated: June 12, 2023.
Jennifer M. Wallace,
Acting Director, Office of Sustainable Fisheries, National Marine Fisheries Service.

[FR Doc. 2023-12825 Filed 6-14-23; 8:45 am]

BILLING CODE 3510-22-P